NATIONAL SCIENCE FOUNDATION

Proposal Review Panel for Human Development; Notice of Meeting

In accordance with the Federal Advisory Committee Act (Pub. L. 92-463, as amended), the National Science Foundation announces the following meeting.

Name: Louis Stokes Alliances for Minority Participation Program, Proposal Review Panel for Human Development (1199)

Date/Time: November 9, 2009, 8 a.m.-6:15 p.m. November 10, 2009, 8 a.m.-5 p.m.

Place: Texas A&M University, College Station, TX.

Prairie View A&M University, Prairie View, Texas.

Type of Meeting: Partially closed.

Contact Persons: A. James Hicks, Senior Program Director, Keith James, Program Director or Martha James, Assistant Program Director, Louis Stokes Alliances for Minority Participation Program, National Science Foundation, Arlington, Virginia 703-292-8640.

Purpose of Meeting: NSF post-award site visit to conduct an in-depth evaluation of project performance.

Agenda

Monday, November 9, 2009

8 a.m.-12 p.m. Introductions & Overview, Vision, Strategy & Alliance Program Overview (OPEN);

12:15 p.m.-1:15 p.m. Lunch.

1:15 p.m.-6:15 p.m. Strengths, Weaknesses, Opportunities, Threats (SWOT). Evaluation and Assessment, Issue Generation Executive Session, Report Preparation (CLOSED).

Tuesday, November 10, 2009

8 a.m.-12 p.m. Visit to Prairie View A&M University Meeting with faculty, students, advisory/governing board (OPEN);

12 p.m.-1 p.m. Lunch;

1:15 p.m.-5 p.m. Discussions with Alliance Leadership/Management. Team (CLOSED);

3:15 p.m.-4 p.m. Debriefing and Wrap-Up (CLOSED).

Reason for Closing: Topics to be discussed and evaluated during the site review will include information of a proprietary or confidential nature, including technical information; and information on personnel. These matters are exempt under 5 U.S.C.552b(c), (4) and (6) of the Government in the Sunshine Act.

Susanne Bolton,
Committee Management Officer.

[FR Doc. E9-25033 Filed 10-16-09; 8:45 am]

BILLING CODE 7555-01-P